DEPARTMENT OF COMMERCE

National Oceanic and Atmospheric Administration

RIN 0648-XC072

Takes of Marine Mammals Incidental to Specified Activities; Marine Geophysical Survey Off the Central Coast of California, November to December, 2012

AGENCY: National Marine Fisheries Service (NMFS), National Oceanic and Atmospheric Administration (NOAA), Commerce.

ACTION: Notice, withdrawal of an incidental take authorization application.

SUMMARY: Notice is hereby given that Lamont-Doherty Earth Observatory of Columbia University (L-DEO), in cooperation with the Pacific Gas and Electric Company (PG&E) has withdrawn its application for an Incidental Harassment Authorization (IHA). The following action relates to a proposed IHA to L-DEO and PG&E for the take of small numbers of marine mammals, by Level B harassment only, incidental to conducting a marine geophysical (seismic) survey off the central coast of California, November to December, 2012.

ADDRESSES: The documents and the application related to this action are available by writing to P. Michael Payne, Chief, Permits and Conservation Division, Office of Protected Resources, National Marine Fisheries Service, 1315 East-West Highway, Silver Spring, MD 20910, or by telephoning the contact listed here.

A copy of the application containing a list of the references used in this document may be obtained by writing to the above address, telephoning the contact listed below (see FOR FURTHER INFORMATION CONTACT), or visiting the Internet at: http://www.nmfs.noaa.gov/pr/permits/incidental.htm#applications.

FOR FURTHER INFORMATION CONTACT: Howard Goldstein or Jolie Harrison, Office of Protected Resources, NMFS, 301-427-8401.

SUPPLEMENTARY INFORMATION: On May 17, 2012, NMFS received an application from L-DEO and PG&E requesting that NMFS issue an IHA for the take, by Level B harassment only, of small numbers of marine mammals incidental to conducting a marine seismic survey within the U.S. Exclusive Economic Zone of the central coast of California during November to December, 2012. NMFS received a revised application on August 31, 2012 and October 10, 2012. L-DEO and PG&E planned to use one source vessel, the R/V Marcus G. Langseth (Langseth) and a seismic airgun array to collect seismic data as part of the Offshore Central California Seismic Imaging Project located in the central area of San Luis Obispo County, California. On September 19, 2012, NMFS published a notice in the Federal Register (77 FR 58256) disclosing the effects on marine mammals, making preliminary determinations, and proposed issuing an IHA. The notice initiated a 30-day public comment period. On December 5, 2012, NMFS received a letter from PG&E withdrawing their IHA application for the proposed action. PG&E explained that on November 14, 2012, the California Coastal Commission (CCC) voted to deny issuance of a Coastal Development Permit/Federal Consistency Certification for the Offshore Central Coastal California Imaging Project. Based upon this decision by L-DEO and PG&E, NMFS hereby withdraws its proposal to issue an IHA for this activity.

Helen M. Golde,
Acting Director, Office of Protected Resources, National Marine Fisheries Service.

[FR Doc. 2013-02587 Filed 2-5-13; 8:45 am]

BILLING CODE 3510-22-P